DEPARTMENT OF HOMELAND SECURITY

Coast Guard

[Docket No. USCG-2008-0830]

Towing Safety Advisory Committee; Meetings

AGENCY: Coast Guard, DHS.

ACTION: Notice of meetings.

SUMMARY: The Towing Safety Advisory Committee (TSAC) and its working groups on the Revision of Navigation and Vessel Inspection Circular (NVIC) 04-01, on the Inspection of Towing Vessels, and on the Medical NVIC will meet in Linthicum, MD. The committee will also discuss various issues relating to shallow-draft inland and coastal waterway navigation and towing safety. All meetings will be open to the public.

DATES: The working groups will meet on Wednesday, September 17, 2008, from 8 a.m. to 5 p.m. TSAC will meet on, Thursday, September 18, 2008, from 8 a.m. to 3 p.m. These meetings may close early if all business is finished. Written material and requests to make oral presentations at the meetings should reach the Coast Guard on or before September 10, 2008. Requests to have a copy of your material distributed to each member of the Committee or working groups should reach the Coast Guard electronically on or before September 10, 2008.

ADDRESSES: The working groups and TSAC will meet at the Maritime Institute of Technology and Graduate Studies (MITAGS); 692 Maritime Boulevard, Linthicum, Maryland 21090; Phone: 410-859-5700. TSAC is utilizing the Baltimore Washington International Airport (BWI) which is about two miles away. There are several commercial hotels within walking distance of the meeting spaces.

Send written material and requests to make oral presentations to TSAC's Assistant Designated Federal Officer (DFO) in the FOR FURTHER INFORMATION CONTACT section below. This notice is available on the Internet at www.regulations.gov under the docket number USCG-2008-0830.

FOR FURTHER INFORMATION CONTACT: Mr. Gerald P. Miante, Assistant DFO, TSAC; U.S. Coast Guard Headquarters, CG-5221, Room 1210; 2100 Second Street, SW., Washington, DC 20593-0001. Telephone (202) 372-1401, fax (202) 372-1926, or e-mail at: Gerald.P.Miante@uscg.mil.

SUPPLEMENTARY INFORMATION: Notice of these meetings is given under the Federal Advisory Committee Act, 5 U.S.C. App. (Pub. L. 92-463).

Agenda of Meetings

NVIC 04-01 Working Group. The agenda for the working group is to discuss possible revisions to the Licensing and manning for Officers of Towing Vessel NVIC and to the Towing Officer Assessment Records (TOARs). The current version of the documents can be viewed at http://www.uscg.mil/hq/g-m/nvic/index00.htm#2001.

Towing Vessel Inspection Working Group. The agenda for the working group includes the Economics sub-group deliberating on providing the committee with information on estimated compliance costs; and the full working group engaging in general discussion regarding inspection issues.

Medical NVIC Working Group. The agenda for the working group is to prepare draft recommendations to the committee on revisions to the mariner Medical Forms CG-719K and 719-KE. The current forms can be viewed at http://www.uscg.mil/nmc/downloads.asp.

Towing Safety Advisory Committee. The agenda for the committee is as follows:

(1) Update of the Towing Vessel Inspection Working Group;

(2) Discussion and voting on recommendations for the revision of mariner Medical Forms CG-719K 719K-E;

(3) Update on the Legislative Change Proposals (LCP) to (a) form the Merchant Mariner Medical Advisory Committee and (b) authority to apply medical and physical requirements to entry level personnel;

(4) Update on the Merchant Mariner Credential (MMC) Rulemaking;

(5) Update on the STCW Rulemaking;

(6) Update on Training and Service Requirements for Merchant Marine Officers;

(7) Update on Commercial/Recreational Boating Interface;

(8) Update on the Transportation Worker Identification Credential (TWIC); and

(9) Discussion on the Review and Recommendations for the Revision of NVIC 4-01 “Licensing and Manning for Officers of Towing Vessels.”

Procedural

All meetings are open to the public. Please note that the meetings may close early if all business is finished. At the Chair's discretion, members of the public may make oral presentations during the meetings. If you would like to make an oral presentation at a meeting, please notify the Assistant DFO no later than September 10, 2008. Written material (20 copies) for distribution at a meeting should reach the Coast Guard no later than September 4, 2008. If you would like a copy of your material distributed to each member of the Committee or Working Groups in advance of a meeting, please submit it electronically to the Assistant DFO, for e-mail distribution, no later than September 10, 2008. Also at the Chair's discretion, members of the public may present comment at the end of the Public Meeting. Please understand that the Committee's schedule may be quite demanding and time for public comment may be limited.

Information on Services for Individuals with Disabilities

For information on facilities or services for individuals with disabilities or to request special assistance at the meetings, contact the Assistant Executive Director as soon as possible.

Dated: August 7, 2008.
J.G. Lantz,
Director of Commercial Regulations and Standards.

[FR Doc. E8-18868 Filed 8-14-08; 8:45 am]

BILLING CODE 4910-15-P